FEDERAL TRADE COMMISSION

Granting of Request for Early Termination of the Waiting Period Under the Premerger Notification Rules

Section 7A of the Clayton Act, 15 U.S.C. § 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—11/27/2000
20010384 | Bunzl plc | Lawrence D. Starr | Koch Supplies Inc.
20010443 | Bunzl plc | Edward S. Reiner | Schrier Bros., Inc.
20010445 | Knauf International GmbH | USG Corporation | USG Corporation.
20010490 | AmeriPath, Inc | Pathology Consultants of America, Inc | Pathology Consultants of America, Inc.
20010505 | Ali M. & Ather Jaferi | Bay View Capital Corp | Bay View Franchise Mortgage Acceptance Company.
20010507 | NICE Systems, Ltd | Steven D. Kaiser | Stevens Communications, Inc.
20010547 | Solectron Corporation | Sony Corporation | Sony Industries Taiwan Co., Ltd Sony Nakaniida Corporation.
20010593 | Chorum Technologies, Inc | Polytronix, Inc | Polytronix, Inc.
Transactions Granted Early Termination—11/28/2000
20010423 | Oak Investment Partners IX, Limited Partnership | United Messaging, Inc | United Messaging, Inc.
20010468 | Swander Pace Capital Fund, L.P | Bruckmann, Rosser, Sherrill & Co., L.P | Burns & Ricker, Inc.
20010477 | Perot Systems Corporation | Health Systems Design Corporation | Health Systems Design Corporation.
20010480 | General Electric Company | Gannett Co., Inc | Space Holding Corp.
20010481 | Greylock IX Limited Partnership | Gannett Co., Inc | Space Holding Corp.
20010482 | Venrock Associates II | Gannett Co., Inc | Space Holding Corp.
20010484 | Third Avenue Trust | Tejon Ranch Company | Tejon Ranch Company.
20010492 | Carl Marks Strategic Investments, L.P | Tejon Ranch Company | Tejon Ranch Company.
20010524 | Nationwide Mutual Insurance Company | White Mountains Insurance Group, Ltd | Waterford Insurance Company.
20010536 | Advent International Corporation | Datek Online Holdings, Corp | Datek Online Holdings, Corp.
20010537 | Silver Lake Partners, L.P | Datek Online Holdings, Corp | Datek Online Holdings, Corp.
20010538 | TA IX, L.P. | Datek Online Holdings, Corp. | Datek Online Holdings, Corp.
20010553 | Naomi C. Dempsey | International Paper Company | International Paper Company.
20010575 | Adelphia Communications Corporation | Everett J. Mundy | Tele-Media Company of Green River. Tele-Media Company of Southern Virginia. Tele-Media Kentucky Trading Company, G.P.
20010576 | Adelphia Communications Corporation | Robert E. Tudek | Tele-Media Company of Green River. Tele-Media Company of Southern Virginia. Tele-Media Kentucky Trading Company, G.P.
20010638 | TA/Atlantic and Pacific IV, L.P | Datek Online Holdings Corp | Datek Online Holdings Corp.
Transactions Granted Early Termination—11/29/2000
20010444 | Patton R. Corrigan | Equilease Holding Corp | Mansfield Plumbing Products, Inc.
20010494 | Global Sports, Inc | Fogdog, Inc | Fogdog, Inc.
20010500 | Wind Point Partners IV, L.P | Weyerhaeuser Company | Weyerhaeuser Company.
20010504 | David Frederick Griffin Trust No. 1 | A.H. Belo Corporation | KOTV, Inc.
20010509 | The 1818 Fund III, L.P | Mortimer B. Fuller, III | Genesee & Wyoming Inc.
20010510 | El.FI. Electrofinanzaria S.p.A | Moulinex S.A | Moulinex S.A.
20010512 | Duke Energy Corporation | El Paso Energy Corporation | PG&E National Energy Goup, Inc.
20010514 | SEACOR SMIT Inc | SCF Corporation | SCF Corporation.
20010515 | Fabrikant International Corporation | SEACOR SMIT Inc | SEACOR SMIT Inc.
20010516 | Textron, Inc | George Sbordone, Jr | Tempo Research Corporation.
20010527 | Radio One, Inc | Sunburst Dallas, L.P | Sunburst Dallas, L.P.
20010529 | Safeguard Scientifics, Inc | Steven D. Siegfried | Palarco International, Inc Palarco, Inc.
20010531 | AMT Group, Inc | HCA—The Healthcare Company | Columbia Hospital Corporation of Houston.
20010535 | Global Private Equity III Limited Partnership | Datek Online Holdings, Corp | Datek Online Holdings, Corp.
20010539 | FleetBoston Financial Corporation | Jeffrey Chizmas | Cider Mill Farms Company, Inc Snuffy's Pet Products, Inc.
20010540 | FleetBoston Financial Corporation | Whitehall Associates, L.P | APP Holding Corporation.
20010543 | O. Bruton Smith | Robert R. & Margaret E. Baillargeon | Richardson Ford, Inc.
20010555 | CDC Finance | CDC North America Inc | CDC North America Inc.
Transactions Granted Early Termination—11/30/2000
20010489 | InterWest Partners V, L.P | Corixa Corporation | Corixa Corporation.
20010499 | Paul G. Allen | One-on-One Sports, Inc | One-on-One Sports, Inc.
20010508 | Fresenius AG | Everest Healthcare Services Corporation | Everest Healthcare Services Corporation.
20010546 | Dover Corporation | RailAmerica, Inc | Kalyn/Siebert I Incorporated.
20010548 | Sheldahl, Inc | Morgenthaler Venture Partners V, L.P | International Flex Holdings, Inc.
20010550 | Munich Re | Loews Corporation | Loews Corporation.
20010556 | FedEx Corporation | American Freightways Corporation | American Freightways Corporation
20010557 | F. Sheridan Garrisson | FedEx Corporation | FedEx Corporation.
20010588 | Software AG | Saga Systems, Inc | Saga Systems, Inc.
20010594 | Cox Enterprises, Inc | Radio One, Inc. | Radio One Licenses, Inc.
20010598 | Cisco Systems, Inc | Integrated Micromachines Incorporated | Integrated Micromachines Incorporated.
20010600 | Kulicke & Soffa Industries, Inc | Siegal-Robert, Inc | Probe Technology, Corporation.
20010601 | Estate of Charles A. Sammons | William L. Baker | Coastline Equipment Co., Inc.
20010603 | Fuji Seal, Inc | Owens-Illinois, Inc | Owens-Illinois Labels Inc.
20010604 | Exelon Corporation | Blair Park Services, Inc. | Blair Park Services, Inc.
20010605 | Best Buy Co., Inc | Leonard M. Tweten | Magnolia Hi-Fi, Inc.
20010607 | Andrew J. McKelvey | Satinder Garcha | People.com Consultants, Inc.
20010618 | Intuit Inc | FrontLine Capital Group | Employee Matters, Inc.
20010639 | Bain Capital Fund VII, L.P | Datek Online Holdings, Corp | Datek Online Holdings, Corp.
20010641 | Apollo Investment Fund IV, L.P | Wareco Service, Inc | Wareco Service, Inc.
20010644 | Mosaic Group Inc | Paradigm Direct, Inc | Paradigm Direct, Inc.
20010645 | Computershare Limited | Merrill Lynch & Co., Inc | Merrill Lynch & Co., Inc.
20010647 | Investor AB | Molecular Staging Inc | Molecular Staging Inc.
20010649 | Broadcom Corporation | SiByte, Inc | SiByte, Inc.
20010651 | Andrew J. McKelvey | SPEC Group Holdings, Inc | SPEC Group Holdings, Inc.
20010653 | Smith International, Inc | Emerson Electric Co | Emerson Electric Co.
20010655 | Pitney Bowes, Inc | Royal Dutch Petroleum Company | Services Integration Group, L.P. SIG-GP, LLC
Transactions Granted Early Termination—12/01/2000
20010485 | Hollinger Inc | The James S. Copley Marital Trust | Fox Valley Press Inc.
Transactions Granted Early Termination—12/04/2000
20010622 | MBNA Corporation. | Citizens Banking Corporation | Citizens Bank, F&M Banking-Iowa.
20010673 | The Black & Decker Corporation | Emglo Products, L.P | Emglo Products, L.P.
Transactions Granted Early Termination—12/05/2000
20010532 | Ernst & Young U.S. L.P | Teach.com, Inc | Teach.com, Inc.
20010551 | International FiberCom, Inc | John W. Perry, Jr | Faulk & Foster Real Estate, Inc.
20010552 | Cephalon, Inc | Abbott Laboratories | Abbott Laboratories
20010554 | Aether Systems, Inc | RTS Wireless, Inc | RTS Wireless, Inc.
20010606 | James Chao | New Focus, Inc | New Focus, Inc.
20010608 | KKR 1996 Fund L.P | About.com, Inc | About.com, Inc.
20010612 | Cisco Systems Inc | iPass Inc | iPass Inc.
20010621 | Exelon Corporation | Conectiv, Inc | Atlantic City Electric Company. Delmarva Power & Light Company.
20010623 | Ocwen Financial Corporation | Empire Funding Corp | Empire Funding Corp.
20010624 | Juniper Networks, Inc | Calient Networks, Inc | Calient Networks, Inc.
20010625 | Rocco B. Commisso | AT&T Corp | TCI TKR of the Gulf Plains, Inc.
20010630 | Victorinox A.G | Swiss Army Brands, Inc | Swiss Army Brands, Inc.
20010632 | Kleiner Perkins Caufield & Byers IX-A, L.P | Naxon Corporation | Naxon Corporation
20010633 | Sky Financial Investment, LLC | Tricon Global Restaurants, Inc | Tricon Global Restaurants, Inc.
20010636 | The Zukerman Family Trust | Eli Epstein | Calcined Coke Corporation.
20010637 | The Bank of New York, Inc. | Citigroup, Inc. | Schroder & Co., Inc.
20010640 | The Chase Manhattan Corporation | Citigroup, Inc. | Lewco Securities Corp.
20010648 | Avocent Corporation | Equinox Systems Inc | Equinox Systems Inc.
20010650 | Aether Systems, Inc | Michael J. Saylor | Strategy.com, Incorporated.
20010662 | David Smilow | Mutual of American Life Insurance Company | Lifxo Holding Company, Inc.
20010664 | Henry L. Hillman | Patrick P. Lee | Hughes Hi-Tech, Inc. SAS Fluid Power, Inc.
20010670 | Ripplewood Partners, L.P | Adaptive Broadband Corporation | Adaptive Broadband Corporation
20010674 | AAR Corp | AAR Corp | Turbine Engine Asset Management, LLC.
20010675 | General Electric Company | AAR Corp | Turbine Engine Asset Management, LLC.
20010678 | General Electric Company | General Electric Company | Aviation Inventory Management Co.; LLC (AIMCO)
20010679 | White Mountain Insurance Group, Inc | CGNU plc | CGU Corporation.
20010680 | Salem Communications Corporation | Sumner M. Redstone | Infinity Broadcasting Corporation.
20010682 | Financial Holding Corporation | ORIX Corporation | Morgan Premium Finance Corp. Morgan Premium Finance of California, Inc.
20010683 | General Motors Corporation | Suzuki Motor Corporation | Suzuki Motor Corporation.
20010685 | Internet Capital Group, Inc. | Anderson Consulting LLP | ePValue.com, Inc.
20010688 | Windward Capital Partners II, L.P | First National of Nebraska, Inc | RPSI, Inc. d/b/a Retriever Payment Systems.
20010692 | Mican Limited | CGI Holding Comany | CGI Holding Company.
20010693 | Startec Global Communications Corp | Iceberg Transport, S.A | Capsule Communications, Inc.
20010702 | Dell Computer Corp | StorageApps Inc | StorageApps Inc.
20010707 | Atlantic Equity Partners III, L.P | Thermo Electron Corporation | Peek Ltd.
20010712 | David and Sherry Gold | 99¢ Only Stores | Odd's-N-End's, Inc Universal International, Inc.
20010713 | Footstar Inc | J. Baker, Inc | JBI, Inc Morse Shoe, Inc.
20010714 | Alliant Energy Corporation | National Grid Group, plc | EUA Congenex Corporation.
20010720 | E.I. du Pont de Nemours and Company | Haci Omer Sabanci Holding A.S | Kordsa Sabanci DuPont Industrial Yarn & Tire Cord Fabric Man.
20010723 | Close Brothers Group plc | Vereniging Aegon | Transamerica Insurance Finance Company.
20010725 | Ashish Bhutani | Dresdner BanK AG | Dresdner Bank AG.
20010726 | Jeffrey A. Rosen | Dresdner Bank AG | Dresdner Bank AG.
20010727 | Michael J. Biondi | Dresdner Bank AG | Dresdner Bank AG.
20010728 | Robert Pruzan | Dresdner Bank AG | Dresdner Bank AG.
20010730 | Molson Inc | Philip Morris Companies Inc | Molson USA, LLC.
20010732 | Siebel Systems, Inc | Sales.com, Inc | Sales.com, Inc.
20010735 | Brentwood Associates Private Equity III, L.P | William Fielding | Dramatic Holdings, Inc.
20010736 | Brentwood Associates Private Equity III, L.P | John Fielding | Dramatic Holdings, Inc.
20010741 | Grotech Partners V, L.P | USinternetworking, Inc | USinternetworking, Inc.
20010748 | Faithful Central Bible Church | Philip F. Anschutz | L.A. Forum Holdings, LLC.
20010749 | Bayerische Hypo -und Vereinsbank AG | BA Holding AG | Bank Austria Commerical Paper LLC, Bank Austria AG.
20010763 | Inktomi Corporation | Adero, Inc | Adero, Inc.
20010774 | Capital Z Financial Services Fund II, L.P | Lending Tree, Inc | Lending Tree, Inc.
Transactions Granted Early Termination—12/06/2000
20010051 | Robert N. Smith | Stephens Group, Inc | Stephens Group, Inc.
20010448 | VoiceStream Wireless Corporation | Cook Inlet Region, Inc | Cook Inlet GSM, Inc Cook Inlet Telecommunications, Inc.
20010454 | Robert E. Shaw | Berkshire Hathaway, Inc | Berkshire Hathaway, Inc.
20010475 | Martin Marietta Materials, Inc | MAC Acquisitions, Inc | MAC Acquisitions, Inc.
20010523 | Heartland Industrial Partners, L.P | Global Metal Technologies, Inc | Global Metal Technologies, Inc.
20010562 | VerticalNet, Inc | SierraCities.com. Inc | SierraCities.com Inc.
20010564 | New Focus, Inc | James Chao | JCA Technology, Inc.
20010565 | Apollo Investment Fund IV, L.P | Rail Van, Inc | Rail Van, Inc.
20010566 | Richard Haworth | US Office Products Company | Pear Commercial Interiors, Inc Price Modern, Inc.
20010570 | SAIA-Burgess Electronics Holding AG | TRW Inc | TRW Sensors and Components Inc.
20010571 | Donald R. Draughon, Jr. | East Coast Oil Corporation | East Coast Oil Corporation.
20010652 | Meriter Health Services, Inc | Physicians Plus Insurance Corporation | Physicians Plus Insurance Corporation.
20010709 | J.W. Childs Equity Partners II, L.P | Leonard N. Stern | Hartz Mountain Corporation.
20010845 | PJM Interconnection, L.L.C | PPL Corporation | PPL Corporation.
20010846 | PJM Interconnection, L.L.C | Public Service Enterprise Group Incorporated | Public Service Enterprise Group Incorporated.
20010847 | PJM Interconnection, L.L.C | Exelon Corporation | Exelon Corporation.
20010853 | Sociedad General de Aguas de Barcelona, S.A | Daniel J. Keating, III | Keating Technologies, Inc.
20010858 | Allianz AG | Arthur E. Nicholas | Nicholas-Applegate LLC.
20010864 | The Virginia Insurance Reciprocal | Alabama Hospital Association Trust | Coastal Insurance Enterprises, Inc.
Transactions Granted Early Termination—12/07/2000
20010488 | Minnesota Mining & Manufacturing Company | MicroTouch Systems, Inc | MicroTouch Systems, Inc.
20010573 | Empirix Inc | Teradyne, Inc | SFTG LLC.
20010584 | Anderson-Tully Company | Naomi C. Dempsey | Soterra LLC.
20010597 | Alan B. Miller | Behavioral Healthcare Corporation | BHC Clinicas Del Este Hospital, Inc. BHC Health Services of Puerto Rico, Inc BHC San Juan Capestrano Hospital, Inc CPC Clinicas Del Este, Inc., Integrated HealthCare Sys Corp.
20010614 | Manuel Alba | Marvell Technology Group Ltd | Marvell Technology Group Ltd.
20010615 | Avigdor Willenz | Marvell Technology Group Ltd | Marvell Technology Group Ltd.
20010656 | David E. Barensfeld | Allegheny Technologies Incorporated | TDY Industries, Inc.
20010668 | Patterson Energy, Inc | Lawayne Jones | Jones Drilling Corp., Henderson Welding, Inc. LEJ Truck and Crane, Inc.
20010669 | Zemex Corporation | Hecla Mining Company | Hecla de Brasil Empreendimentos de Participacoes Ltda. Kentucky-Tennessee Clay Company.
20010716 | Centre Capital Investors III, L.P. | Terence J. Goodling | Grass Valley Group Inc.
20010718 | Unaxis Holding AG | Applied Films Corporation | Applied Films Corporation.
20010719 | Panhandle-Plains Higher Education Authority, Inc | Abilene Higher Education Foundation | Abilene Higher Education Resources Corporation.
20010762 | Reinhard Mohn | Frank V. Cappo | Coral Graphics Services of Virginia, Inc Coral Graphics Services, Inc.
Transactions Granted Early Termination—12/08/2000
20010542 | Credit Suisse Group | Enron Corp | Basic Energy Services, Inc.
20010545 | Compagnie de Saint-Gobain | Magic Manufacturing, Inc | Magic Manufacturing, Inc.
20010567 | Internet Capital Group, Inc | Cephren, Inc | Cephren, Inc.
20010568 | General Electric Company | Cephren, Inc | Cephren, Inc.
20010572 | Royal Bank of Canada | Dain Rauscher Corporation | Dain Rauscher Corporation.
20010574 | Teradyne, Inc | Empirix Inc | Empirix Inc.
20010589 | Allied Capital Corporation | BLC Financial Services, Inc | BLC Financial Services, Inc.
20010592 | Germain Lamonde | Burleigh Instruments, Inc | Burleigh Instruments, Inc.
20010610 | Whitney V, L.P | Michael J. Hartnett | Roller Bearing Holding Company, Inc.
20010619 | Electronic Data Systems Corporation | Electronic Data Systems Corporation | TransAlliance L.P.
20010620 | Berkshire Hathaway Inc | Benjamin Moore & Co | Benjamin Moore & Co.
20010646 | AT&T Corporation | Sumner M. Redstone | Viacom Inc. Westinghouse CBS Holding Company. Westinghouse Electric G.m.b.H.
20010663 | Washington Mutal Inc | The PNC Financial Services Group, Inc | PNC Mortgate Corp. of America. PNC Mortgage Securities Corp PNC Reinsurance Corp.
20010681 | Menasha Corporation | Accurate Box, Carton and Container Corp | Accurate Box, Carton and Container Corp.
20010689 | Crescendo III, L.P | VeloCom Inc | VeloCom Inc.
20010690 | GTCR Fund VII, L.P | First Tennessee National Corporation | First Tennessee Bank National Association.
20010697 | Bank of America Corporation | American Fidelity & Liberty, Inc | American Fidelity & Liberty, Inc.
20010700 | George E. Robb Jr | LaBranche & Co. Inc | LaBranche & Co. Inc.
20010701 | LaBranche & Co. Inc | George E. Robb Jr | Robb Peck McCooey Financial Services, Inc.
20010708 | Monrovia Nursery Company | Horticultural Farms, Inc | Horticultural Farms, Inc.
20010711 | Harrowston Inc | AvinMeritor, Inc | Meritor Heavy Vehicle Systems, LLC.
20010715 | Honeywell Electronic Manufacturing Services, Inc | Mitsubishi Chemical Corporation | Mitsubishi Chemical America, Inc.
20010717 | Cendant Corporation | Avis Group Holdings, Inc | Avis Group Holdings, Inc.
20010734 | Brambles Industries Limited | Instashred Security Services, Inc | Instashred Security Services, LLC.
20010739 | Comverse Technology | PacketVideo Corporation | PacketVideo Corporation.
20010743 | Phillips Petroleum Company | Phillips Petroleum Company | Sweeny Olefins Limited Partnership.
20010744 | William Davidson | TruServ Corporation | TruServ Corporation.
20010745 | Paxton Media Group, Inc | A.H. Belo Corporation | Henderson Gleaner, Inc.
|  |  | Owensboro Messenger-Inquirer, Inc.
20010746 | NDS Holdings, L.P | Sarno Heirs Trust | SML, LLC.
20010747 | Gerald W. Schwartz | La Francaise Bakery, Inc | La Francaise Bakery, Inc.
20010752 | Praxair Inc | Viscount III, LLC | HealthCare Partners, LLC, HCP, Inc HealthCare Partners-Indiana, Inc., HCP Pediatric Care Ser.
20010753 | The Bear Stearns Companies Inc | Helios Management LLC | Helios Group Illinois LLC. Helios Holding LLC, Helios Futures and Options LLC.
20010766 | Phillip R. Bennett | Sukhmeet (Micky) Dhillon | Main Street Trading Company/Newhall Discount Futures, Inc.
20010777 | Tom T. Gores | Lanier Worldwide, Inc | Lanier Worldwide, Inc.
20010781 | Russel Metals Inc | Pitt-Des Moines, Inc | Pitt-Des Moines, Inc.
20010795 | James Fine Chemicals, Inc. d/b/a JFC Technologies | Schweizerhall Holding AG | Schweizerhall Development Corporation. Schweizerhall Manufacturing Corporation.
20010797 | Arnett Physician Group, P.C. | PhyCor, Inc | PhyCor-Lafayette, LLC, Arnett Health Plans, Inc.
20010798 | Michael Luke | SIG Schweizerische Industrie-Gesellschaft Holding AG | SIG Arms Inc.
20010799 | Thomas Ortmeier | SIG Schweizerische Industrie-Gesellschaft Holding AG | SIG Arms Inc.
20010803 | Mark Cuban | FXM, Inc | FXM, Inc.
20010804 | Keller Group, Inc | Nucor Corporation | Nucor Corporation.
20010809 | Stephen E. Myers | The Walt Disney Company | Vista-United Telecommunications Partnership.
20010812 | American National Insurance Company | Farm Family Holdings, Inc | Farm Family Holdings, Inc.
20010814 | FreeBorders.com, Inc | Internet Capital Group, Inc | Animated Images, Inc.
20010815 | Internet Capital Group, Inc | FreeBorders.com, Inc | FreeBorders.com, Inc.
20010816 | PNC Financial Services Group, Inc | Dana Corporation | Dana Corporation.
20010819 | Amkor Technology, Inc | Toshiba Corporation | Iwate Toshiba Electronics Co., Ltd.
20010825 | Unitrin, Inc | Curtiss-Wright Corporation | Curtiss-Wright Corporation.
20010828 | Zurich Financial Services | The First Australia Fund, Inc | The First Australia Fund, Inc.
20010844 | PJM Interconnection, L.L.C | GPU, Inc | GPU, Inc.
20010859 | General Motors Corporation | Bank of America Corporation | Banc of America Commercial Corporation.
20010861 | Cook Inlet Region, Inc | John S. Boyd | BCN Communications, L.L.C.
20010886 | Brown & Brown, Inc | John R. Riedman | Riedman Corporation.

FOR FURTHER INFORMATION CONTACT: Sandra M. Peay or Parcellena P. Fielding, Contact Representatives, Federal Trade Commission, Premerger Notification Office, Bureau of Competition, Room 303, Washington, DC 20580, (202) 326-3100.

By Direction of the Commission.
Donald S. Clark,
Secretary.

[FR Doc. 01-1168 Filed 1-12-01; 8:45 am]

BILLING CODE 6750-01-M